DEPARTMENT OF DEFENSE

Department of the Navy

Notice of Intent To Prepare an Environmental Impact Statement and Overseas Environmental Impact Statement for Navy Training Activities in the Gulf of Alaska

AGENCY: Department of the Navy, DoD.

ACTION: Notice.

SUMMARY: Pursuant to section 102(2)(c) of the National Environmental Policy Act of 1969 (NEPA) as implemented by the Council on Environmental Quality regulations (40 CFR Parts 1500-1508), and Executive Order 12114 (Environmental Effects Abroad of Major Federal Actions), the Department of the Navy (Navy) announces its intent to prepare an Environmental Impact Statement (EIS)/Overseas Environmental Impact Statement (OEIS) to evaluate the potential environmental effects of conducting Navy training in and around the Gulf of Alaska (GOA), including participation in large-scale Joint exercises, to support Fleet training exercise requirements. The Navy will invite the U.S. Fish and Wildlife Service and National Marine Fisheries Service to be cooperating agencies in preparation of this EIS/OEIS.

DATES AND ADDRESSES: Three public scoping meetings will be held to receive oral and/or written comments on environmental concerns that should be addressed in the EIS/OEIS. Each of the three scoping meetings will consist of an informal, open house session with information stations staffed by Navy representatives. The public scoping meetings will be held at the following dates, times, and locations:

1. Tuesday, April 1, 2008, 6 p.m. to 9 p.m., at Kodiak Best Western, 236 W. Rezanof Drive, Kodiak, AK 99615,

2. Wednesday, April 2, 2008, 6 p.m. to 9 p.m., at Kincaid Outdoor Center, North Assembly Room, 9401 W. Raspberry Road, Anchorage, AK 99502,

3. Thursday, April 3, 2008, 6 p.m. to 9 p.m., at Mt. Eccles Elementary School, 200 Adams Street, Cordova, AK 99574.

Details of the meeting locations and times will be announced in local newspapers. Additional information concerning meeting times will be available on the EIS/OEIS Web page located at: http://www.GulfofAlaskaNavyEIS.com.

FOR FURTHER INFORMATION CONTACT: Mrs. Amy Burt, Naval Facilities Engineering Command, Northwest, 1101 Tautog Circle Suite 203, Silverdale, Washington 98315-1101, Attn: GOA Navy Training Activities EIS/OEIS Project Manager, Code EV1.AB, telephone number: 360-396-0924.

SUPPLEMENTARY INFORMATION: The proposed EIS/OEIS analyzes potential environmental effects of Navy training activities that will take place in and around the Gulf of Alaska and those aircraft events that originate in the maritime exercise area (MEA) and extend over established inland Alaska military operating areas. Navy training activities primarily take place in, or originate from, the MEA. The MEA provides approximately 42,000 nm² (144,056 km²) of air and surface/subsurface ocean operating area and overlying airspace.

The MEA is a polygon that is oriented from northwest to southeast, approximately 300 nm in length by 150 nm in width, situated south of Prince William Sound and east of Kodiak Island, Alaska. The EIS/OEIS study area includes Gulf of Alaska ocean area within approximately 200 km from the MEA and the waters within this boundary up to the coastline. Military operations also occur over established land-based Military Operating Areas maintained by the Air Force in Alaska.

These Alaska training areas are used to conduct Navy training, including participating in large-scale Joint training exercises such as the annual Northern Edge exercise, involving military hardware, personnel, tactics, munitions, explosives, and electronic combat. Alaska is an ideal location to support naval and joint operational readiness by providing the maritime component to a “geographically realistic” range for U.S. Pacific Command (PACOM) and U.S. Northern Command (NORTHCOM) scenario-based training.

The purpose of the Proposed Action is to: (1) Support PACOM and NORTHCOM training requirements; (2) achieve and maintain Fleet readiness using these Alaska training areas to support and conduct current, emerging, and future training activities; (3) accommodate new training requirements associated with the introduction of new weapons and systems to the Fleet; and (4) support civilian authorities in homeland defense training exercises.

The need for the Proposed Action is to: (1) Maintain current levels of military readiness; (2) accommodate future increases in training activities to support Fleet exercise requirements in the Alaska training areas; (3) support the acquisition and implementation into the Fleet of advanced military technology; and (4) maintain the long-term viability of the Alaska training areas as a Navy training area while protecting human health and the environment, and enhancing the quality and the capabilities of the training area, including safety.

The No Action Alternative is the continuation of current training levels, with one carrier strike group per exercise, to exclude the use of mid-frequency active sonar (MFAS). Alternative 1 consists of an increase in the number of training activities from baseline levels, to include the use of MFAS, plus training associated with the introduction of new weapon systems, vessels, and aircraft into the Fleet. Alternative 2 consists of all elements of Alternative 1, plus the addition of a second summertime carrier strike group exercise each year, to include the use of MFAS.

Environmental issues that will be addressed in the EIS/OEIS include but are not limited to the following: Air quality; airspace; biological resources, including threatened and endangered species; cultural resources; geology and soils; hazardous materials and waste; health and safety; noise; socioeconomics; transportation and water resources.

The Navy is initiating the scoping process to identify community concerns and local issues that will be addressed in the EIS/OEIS. Federal, state, and local agencies, Alaska Native Federally-Recognized Tribes, the public, and interested persons are encouraged to provide oral and/or written comments to the Navy to identify specific environmental issues or topics of environmental concern that the commenter believes the Navy should consider. All comments, written or provided orally at the scoping meetings, will receive the same consideration during EIS/OEIS preparation.

Written comments on the scope of the EIS/OEIS should be postmarked no later than April 30, 2008. Comments may be mailed to: Mrs. Amy Burt, Naval Facilities Engineering Command, Northwest, 1101 Tautog Circle, Suite 203, Silverdale, Washington 98315-1101, Attn: GOA Navy Training Activities EIS/OEIS Project Manager, Code EV1.AB. Comments can also be submitted via the EIS/OEIS Web page located at http://www.GulfofAlaskaNavyEIS.com.

Dated: March 11, 2008.
T.M. Cruz,
Lieutenant, Judge Advocate General's Corps, U.S. Navy, Federal Register Liaison Officer.

[FR Doc. E8-5316 Filed 3-14-08; 8:45 am]

BILLING CODE 3810-FF-P